DEPARTMENT OF THE TREASURY

Internal Revenue Service

26 CFR Parts 1 and 301

[REG-131418-14]

RIN 1545-BN27

Reporting for Qualified Tuition and Related Expenses; Education Tax Credits; Correction

AGENCY: Internal Revenue Service (IRS), Treasury.

ACTION: Correction to a notice of proposed rulemaking and notice of public hearing.

SUMMARY: This document contains corrections to a notice of proposed rulemaking and notice of public hearing (REG-131418-14) that was published in the Federal Register on Tuesday, August 2, 2016 (81 FR 50657). The proposed regulations that revise the rules for reporting qualified tuition and related expenses under section 6050S on a Form 1098-T, “Tuition Statement,” and conforms the regulations to the changes made to section 6050S by the Protecting Americans from Tax Hikes Act of 2015.

DATES: Written or electronic comments and request for a public hearing for the notice of proposed rulemaking at 81 FR 50657, August 2, 2016, are still being accepted and must be received by October 31, 2016.

FOR FURTHER INFORMATION CONTACT: Concerning the proposed regulations, Gerald Semasek of the Office of Associate Chief Counsel (Procedure and Administration) for the proposed regulations under sections 6050S and 6724, (202) 317-6845, and Sheldon Iskow of the Office of Associate Chief Counsel (Income Tax and Accounting) for the proposed regulations under section 25A, (202) 317-4718; concerning the submission of comments and requests for a public hearing, Regina Johnson, (202) 317-6901 (not toll-free calls).

SUPPLEMENTARY INFORMATION:

Background

The notice of proposed rulemaking that is subject of this document is under section 6050S of the Internal Revenue Code.

Need for Correction

As published, the notice of proposed rulemaking and notice of public hearing (REG-131418-14) contains errors that may prove to be misleading and are in need of clarification.

Correction of Publication

Accordingly, the notice of proposed rulemaking and notice of public hearing (REG-131418-14) that are subject to FR Doc. 2016-18032 are corrected as follows:

1. On page 50662, in the preamble, second column, the third line from the bottom of the first full paragraph, the language “requiring eligible educational institution” is corrected to read “requiring eligible educational institutions”.

§ 1.25A-0 [Corrected]

2. On page 50664, second column, amendatory instruction 2, the language “9. Revising the entry for § 1.25A-2(f)(6).” is corrected to read “9. Revising the entry for § 1.25A-5(f)(6).”.

3. On page 50664, third column, entry for (e)(3), the language “Effective/applicability dates.” is corrected to read “Applicability dates.”.

4. On page 50664, third column, entry for (f)(4), the language “Effective/applicability date.” is corrected to read “Applicability date.”.

5. On page 50664, third column, entry for (e), the language “Effective/applicability date.” is corrected to read “Applicability date.”.

6. On page 50664, third column, entry for (g), the language “Effective/applicability date.” is corrected to read “Applicability date.”.

§ 1.6050S-0 [Corrected]

7. On page 50667, second column, entry for (c)(1)(iii)(E), the language “consequences of refunds, reimbursements.” is corrected to read “consequences of refunds, reimbursements,”.

§ 1.6050S-1 [Corrected]

8. On page 50669, third column, in the second line of paragraph (b)(2)(vii), Example 5. (i), the language, “2016 fall semester” is corrected to read “Z as a full-time student for the 2016 fall semester”; and in the tenth the language, “$11,000 for the 2017 spring semesters.” is corrected to read ” $11,000 for the 2017 spring semester.”.

9. On page 50670, second column, the third line of paragraph (c)(2)(i), the language, “provided in paragraphs (c)(2)(ii) of this” is corrected to read “provided in paragraph (c)(2)(ii) of this”.

10. On page 50671, first column, the fifth line of paragraph (g), the language, “31, 2003, except that paragraphs (a)(2)” is corrected to read “31, 2003, except that paragraphs (a)(2),”.

Martin V. Franks,
Chief, Publications and Regulations Branch, Legal Processing Division, Associate Chief Counsel (Procedure and Administration).

[FR Doc. 2016-22938 Filed 9-23-16; 8:45 am]

BILLING CODE 4830-01-P